OFFICE OF THE UNITED STATES TRADE REPRESENTATIVE

Generalized System of Preferences; Import Statistics Relating to Competitive Need Limitations; Invitation for Public Comment

AGENCY: Office of the United States Trade Representative.

ACTION: Notice.

SUMMARY: This notice is to inform the public of interim 2002 import statistics relating to Competitive Need Limitations (CNL) under the Generalized System of Preferences (GSP) program. Public comments are invited by 5 p.m., February 21, 2003, regarding possible de minimis CNL waivers with respect to particular articles, and possible redesignations under the GSP program of articles currently subject to CNLs.

FOR FURTHER INFORMATION CONTACT: Contact the GSP Subcommittee, Office of the United States Trade Representative (USTR), 1724 F Street, NW., Room F-220, Washington, DC 20508. The telephone number is (202) 395-6971 and the facsimile number is (202) 395-9481.

SUPPLEMENTARY INFORMATION:

I. Competitive Need Limitations

The GSP program provides for the duty-free importation of designated articles when imported from designated beneficiary developing countries. The GSP program is authorized by title V of the Trade Act of 1974 (19 U.S.C. 2461, et seq.), as amended (the “1974 Act”), and is implemented in accordance with Executive Order 11888 of November 24, 1975, as modified by subsequent Executive Orders and Presidential Proclamations. Section 503(c)(2)(A) of the 1974 Act, as amended (19 U.S.C. 2463(c)(2)(A)), provides for CNLs on duty-free treatment under the GSP program. When the President determines that a beneficiary developing country exported to the United States during a calendar year either (1) a quantity of a GSP-eligible article having a value in excess of the applicable amount for that year ($105 million for 2002), or (2) a quantity of a GSP-eligible article having a value equal to or greater than 50 percent of the value of total U.S. imports of the article from all countries (the “50 percent” CNL), the President shall terminate GSP duty-free treatment for that article from that beneficiary developing country by no later than July 1 of the next calendar year.

II. Discretionary Decisions

A. De Minimis Waivers

Section 503(c)(2)(F) of the 1974 Act (19 U.S.C. 2463(c)(2)(F)) provides the President with discretion to waive the 50 percent CNL with respect to an eligible article imported from a beneficiary developing country if the value of total imports of that article from all countries during the calendar year did not exceed the applicable amount for that year ($16 million for 2002).

B. Redesignation of Eligible Articles

Where imports of an eligible article from a beneficiary developing country ceased to receive duty-free treatment due to exceeding the CNL in a prior year, section 503(c)(2)(C) of the 1974 Act (19 U.S.C. 2463(c)(2)(C)) provides the President with discretion to redesignate such an article for duty-free treatment if imports in the most recently completed calendar year did not exceed the CNLs.

III. Implementation of Competitive Need Limitations, Waivers, and Redesignations

Exclusions from GSP duty-free treatment where CNLs have been exceeded will be effective July 1, 2003. Decisions on these matters, as well as decisions with respect to de minimis waivers and redesignations, will be based on full 2002 calendar year import statistics.

IV. Interim 2002 Import Statistics

In order to provide advance notice of articles that may exceed the CNLs for 2002, and to afford an earlier opportunity for comment regarding possible de minimis waivers and redesignations, interim import statistics covering the first 10 months of 2002 are included with this notice.

The following lists contain, for each article, the Harmonized Tariff Schedule of the United States (HTS) number and beneficiary country of origin, the value of imports of such article for the first ten months of 2002, and the percentage of total imports of that product from all countries. The flags indicate the status of GSP eligibility. Articles marked with an “*” are those that have been excluded from GSP eligibility for the entire past calendar year. Articles marked with a “D” are those that, based on interim 2002 data, may be eligible for a de minimis waiver of the 50 percent CNL.

List I shows GSP-eligible articles from beneficiary developing countries that have already exceeded the CNL of $105 million in 2002. Those articles without a flag are articles that were GSP-eligible during 2002 but stand to lose GSP duty-free treatment on July 1, 2003, unless a waiver is granted. Such waivers are required to have been requested in the 2002 GSP Annual Review.

List II shows GSP-eligible articles from beneficiary developing countries that (1) have not yet exceeded, but are approaching, the $105 million CNL for the period from January through October 2002, or (2) are close to or above the 50 percent CNL. Depending on final calendar year 2002 import data, these products also stand to lose GSP duty-free treatment on July 1, 2003, unless a waiver is granted. Such waivers are required to have been requested in the 2002 GSP Annual Review.

List III is a subset of List II. List III identifies GSP-eligible articles from beneficiary developing countries that are near or above the 50 percent CNL, but that may be eligible for a de minimis waiver of the 50 percent CNL. Actual eligibility for de minimis waivers will depend on final calendar year 2002 import data. Each year, de minimis waivers are considered automatically and public comments are accepted.

List IV shows GSP-eligible articles that are currently not receiving GSP duty-free treatment, but that have import levels (based on interim 2002 data) below the CNLs and thus may be eligible for redesignation pursuant to the President's discretionary authority. Articles with a “D” exceed the 50 percent CNL and would require both a de minimis waiver and redesignation to receive GSP duty-free treatment. The list may contain articles that may not be redesignated until certain conditions are fulfilled, as where, for example, GSP eligibility for an article was administratively suspended because of deficiencies in a country's protection of worker or intellectual property rights. Redesignation requests are normally made in the annual review, unless made in conjunction with remedying the deficiencies.

The lists appended to this notice are provided for informational purposes only. The attached lists are computer-generated and based on interim 2002 data, and may not include all articles that may be affected by the GSP CNLs. Regardless of whether or not an article is included on the lists, all determinations and decisions regarding the CNLs of the GSP program will be based on full calendar year 2002 import data with respect to each GSP-eligible article. Each interested party is advised to conduct its own review of 2002 import data with regard to the possible application of GSP CNLs.

IV. Public Comments

Requirements for Submissions

All submissions must conform to the GSP regulations set forth at 15 CFR Part 2007, except as modified below. These regulations are also included in “A Guide to the U.S. Generalized System of Preferences (GSP)” (May 1999) (“GSP Guidebook”), available at www.ustr.gov. Furthermore, each party providing comments should indicate on the first page of the submission its name, the relevant HTS subheading(s), the beneficiary country or territory of interest, and the type of action (e.g., the use of the President's de minimis waiver authority, etc.) in which the party is interested.

Comments must be submitted, in English, to the Chairman of the GSP Subcommittee of the Trade Policy Committee (TPSC) as soon as possible but not later than 5 p.m on February 21, 2003. Comments submitted after this date may be considered at the discretion of the GSP Subcommittee until the time its advice is provided to the TPSC.

Submissions in response to this notice will be subject to public inspection by appointment with the staff of the USTR Public Reading Room, except for information granted “business confidential” status pursuant to 15 CFR 2003.6.

If the submission contains business confidential information, a non-confidential version of the submission must also be submitted that indicates where confidential information was redacted by inserting asterisks where material was deleted. In addition, the confidential submission must be clearly marked “BUSINESS CONFIDENTIAL” at the top and bottom of each and every page of the document. The public version which does not contain business confidential information must also be clearly marked at the top and bottom of each and every page (either “PUBLIC VERSION” or “NON-CONFIDENTIAL”).

In order to facilitate prompt consideration of submissions, USTR strongly urges and prefers electronic e-mail submissions in response to this notice. In the event that an e-mail submission is impossible, submissions should be made by facsimile. These submissions should be single copy transmissions in English with the total submission not to exceed 50 single-spaced pages and 3 megabytes as a digital file attached to an e-mail transmission. Persons making submissions by e-mail should use the following subject line: “Comments on 2002 CNL Review” Documents must be submitted as either WordPerfect (“.WPD”), MSWord (“.DOC”), or text (“.TXT”) files. Documents should not be submitted as electronic image files or contain imbedded images (for example, “.JPG”, “PDF”, “.BMP”, or “.GIF”) as such files are generally excessively large. E-mail submissions containing such files may not be accepted. Supporting documentation submitted as spreadsheets are acceptable as Quattro Pro or Excel, pre-formatted for printing on 8½ x 11 inch paper. To the extent possible, any data attachments to the submission should be included in the same file as the submission itself, and not as separate files. Facsimile submissions should include, among other identifying information specified in the regulations, the following information at the top of the first page: “Comments on 2002 CNL Review.”

For any document containing business confidential information submitted as an electronic attached file to an e-mail transmission, the file name of the business confidential version should begin with the characters “BC-”, and the file name of the public version should begin with the characters “P-”. The “P-” or “BC-” should be followed by the name of the party (government, company, union, association, etc.) which is submitting the petition.

Parties who make submissions by e-mail should not provide separate cover letters or messages in the message area of the e-mail; information that might appear in any cover letter should be included directly in the attached file containing the submission itself. The e-mail address for these submissions is FR0052@ustr.gov.

Public versions of all documents relating to this review will be available for review approximately three weeks after the due date by appointment in the USTR Public Reading Room, 1724 F Street NW., Washington, DC. Availability of documents may be ascertained, and appointments may be made from 9:30 a.m. to noon and 1 p.m. to 4 p.m., Monday through Friday, by calling (202) 395-6186.

Steven Falken,
Executive Director for GSP, Chairman, GSP Subcommittee.

BILLING CODE 3190-01-P

[FR Doc. 03-2746 Filed 2-4-03; 8:45 am]

BILLING CODE 3190-01-P